DEPARTMENT OF COMMERCE

National Oceanic and Atmospheric Administration

50 CFR Part 679

[Docket No. 021212307-2307-01; I.D. 011403C]

Fisheries of the Exclusive Economic Zone Off Alaska; Atka Mackerel Lottery in Areas 542 and 543

AGENCY: National Marine Fisheries Service (NMFS), National Oceanic and Atmospheric Administration (NOAA), Commerce.

ACTION: Notification.

SUMMARY: NMFS is notifying registered vessels of their assignments for the A season Atka mackerel fishery in harvest limit area (HLA) 542 and/or 543 of the Aleutian Islands subarea of the Bering Sea and Aleutian Islands management area (BSAI). This action is necessary to allow the harvest of the A season HLA limits established for area 542 and area 543 pursuant to the interim 2003 harvest specifications for groundfish.

DATES: Effective 1200 hrs, Alaska local time (A.l.t.), January 22, 2003, until 1200 hrs, A.l.t., April 15, 2003.

FOR FURTHER INFORMATION CONTACT: Andrew Smoker, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(8)(iii)(A), all vessels using trawl gear for directed fishing for Atka mackerel in the HLA are required to register with NMFS. In accordance with § 679.20(a)(8)(iii)(A)(1), all vessels using trawl gear for directed fishing for Atka mackerel in the HLA that wish to participate in the A season HLA fishery must register with NMFS by 4:30 pm, A.l.t. on the first working day following January 1. Eight vessels have registered with NMFS to fish in the A season HLA fisheries in areas 542 and/or 543. In order to reduce the amount of daily catch in the HLA by about half and to disperse the fishery over time and in accordance with § 679.20(a)(8)(iii)(B), the Administrator, Alaska Region, NMFS, has randomly assigned each vessel to the HLA directed fishery for Atka mackerel for which they have registered and is now notifying each vessel of its assignment.

Vessels that will participate in the first HLA directed fishery in area 542 and/or the second HLA directed fishery in area 543 in accordance with § 679.20(a)(8)(iii) are as follows: Federal Fishery Permit number (FFP) 3423 Alaska Warrior, FFP 2733 Seafreeze Alaska, FFP 2134 Ocean Peace, and FFP 3819 Alaska Spirit.

Vessels that will participate in the first HLA directed fishery in area 543 and/or the second HLA directed fishery in area 542 in accordance with § 679.20(a)(8)(iii) are as follows: FFP 4093 Alaska Victory, FFP 2443 Alaska Juris, FFP 3400 Alaska Ranger, and FFP 3835 Seafisher.

Classification

This action responds to the best available information. The Assistant Administrator for Fisheries, NOAA, finds that the need to immediately notify each vessel of its assignment to allow the harvest of the A season HLA fisheries in area 542 and area 543 constitutes good cause to waive the requirement to provide prior notice and opportunity for public comment pursuant to the authority set forth at 5 U.S.C. 553(b)(3)(B) and 50 CFR 679.20(a)(8)(iii), as such procedures would be unnecessary and contrary to the public interest. This notice merely advises the owners of these vessels of the results of a random assignment required by regulation. Similarly, the need to implement these measures in a timely fashion and to notify each vessel of their assignment to allow the harvest of the A season HLA limits established for area 542 and area 543 constitutes good cause to find that the effective date of this action cannot be delayed for 30 days. Accordingly, under 5 U.S.C. 553(d), a delay in the effective date is hereby waived.

This action is required by §§ 679.20 and 679.22 and is exempt from review under Executive Order 12866.

Authority: Authority: 16 U.S.C. 1801 et seq.

Dated: January 15, 2003.
Bruce C. Morehead,
Acting Director, Office of Sustainable Fisheries, National Marine Fisheries Service.

[FR Doc. 03-1379 Filed 1-21-03; 8:45 am]

BILLING CODE 3510-22-S